SMALL BUSINESS ADMINISTRATION

SBA Invention, Innovation, and Entrepreneurship Advisory Committee Meeting

AGENCY: Small Business Administration.

ACTION: Notice of Federal Advisory committee meeting: SBA Invention, Innovation, and Entrepreneurship Advisory Committee.

SUMMARY: The U.S. Small Business Administration (SBA) will hold the inaugural meeting of the SBA Invention, Innovation, and Entrepreneurship Advisory Committee on Wednesday, November 1, 2023. Members will convene as an independent source of advice and recommendations to SBA on matters supporting U.S. innovation, addressing commercialization hurdles and other vulnerabilities in the domestic investment and innovation ecosystem, and facilitating entrepreneurial access-to and participation-in federal innovation support and funding programs. The meeting will be in person for members and streamed live to the public.

DATES: Wednesday November 15, 2023, from 9 a.m. to 3 p.m. Eastern Time (ET).

ADDRESSES: The Invention, Innovation, and Entrepreneurship Advisory Committee will meet at the SBA Headquarters Building located at 409 3rd Street SW, Washington, DC 20416 and the meeting will be live streamed for the public. Register at https://bit.ly/IIEAC-Nov23.

FOR FURTHER INFORMATION CONTACT: Jennifer Shieh, Designated Federal Officer, Office of Investment and Innovation, SBA, 409 3rd Street SW, Washington, DC 20416, (202) 539-1448 or IIEAC@sba.gov. The meeting will be live streamed to the public, and anyone wishing to submit questions to the SBA Invention, Innovation, and Entrepreneurship Advisory Committee can do so by submitting them via email to IIEAC@sba.gov. Individuals who require an alternative aid or service to communicate effectively with SBA should email the point of contact listed above and provide a brief description of their preferred method of communication.

SUPPLEMENTARY INFORMATION: Pursuant to section 10(a)(2) of the Federal Advisory Committee Act (5 U.S.C., Appendix 2), SBA announces the inaugural meeting of the SBA Invention, Innovation, and Entrepreneurship Advisory Committee (the “IIEAC”). The IIEAC is tasked with providingadvice, insights, andrecommendationsto SBA on matters broadly related to the U.S. startup and small business innovation ecosystem, and more specifically supporting innovation across the U.S.; developing and/or evolving SBA programs and services to address commercialization hurdles; addressing vulnerabilities and gaps in funding domestic invention and innovation; facilitating and enabling broad access and participation in federal innovation support and funding programs. The final agenda for the meeting will be posted on the IIEAC website at https://www.sba.gov/about-sba/organization/sba-initiatives/invention-innovation-entrepreneurship-advisory-committee prior to the meeting. Copies of the meeting minutes will be available by request within 90 days of the meeting date.

Public Comment

Any member of the public may submit pertinent questions and comments concerning IIEAC affairs at any time before or after the meeting and participate in the livestreamed meeting of the SBA Invention, Innovation, and Entrepreneurship Advisory Committee on November 15. Comments may be submitted to Jennifer Shieh at IIEAC@sba.gov. Those wishing to participate live are encouraged to register by or before November 8, 2023, using the registration link provided above. Advance registration is strongly encouraged.

Dated: October 17, 2023.
Andrienne Johnson,
SBA Committee Management Officer.

[FR Doc. 2023-23253 Filed 10-19-23; 8:45 am]

BILLING CODE P